DEPARTMENT OF THE INTERIOR

Bureau of Indian Affairs

Proclaiming Certain Lands, Shalit Family Property, as an addition to the Pueblo of Laguna Reservation, New Mexico

AGENCY: Bureau of Indian Affairs, Interior.

ACTION: Notice of Reservation Proclamation.

SUMMARY: This notice informs the public that the Deputy Assistant Secretary for Policy and Economic Development proclaimed approximately 351.8363 acres, more or less, to be added to the Pueblo of Laguna Reservation (Laguna), New Mexico.

FOR FURTHER INFORMATION CONTACT: Ben Burshia, Bureau of Indian Affairs, Division of Real Estate Services, Mail Stop 4639-MIB, 1849 C Street, NW, Washington, DC 20240, telephone (202) 208-7737.

SUPPLEMENTARY INFORMATION: This notice is published in the exercise of authority delegated by the Secretary of the Interior to the Assistant Secretary—Indian Affairs by part 209 of the Departmental Manual, and as assumed by the Deputy Assistant Secretary for Policy and Economic Development.

A proclamation was issued, in accordance with section 7 of the Act of June 18, 1934 (48 Stat. 986; 25 U.S.C. 467), for the land described below. The land was proclaimed to be an addition to and part of the Laguna Reservation for the exclusive use of Indians on that reservation who are entitled to reside at the reservation by enrollment or tribal membership.

New Mexico Principal Meridian

Bernalillo County, New Mexico

Section 04, Township 09 North, Range 1 West, N.M.P.M.

A certain tract of land being all of Lots 1, 2, 3, 4; portions of Lots 6, 7 and 8; all of the South half of the Northwest quarter (S/2 of NW/4); all of the North half of the Southwest quarter (N/2 of SW/4); and a portion of the Northwest quarter of the Southeast quarter (NW/4SE/4), all within Section 4, Township 9 North, Range 1 West, N.M.P.M., Bernalillo County, New Mexico, being more particularly described as follows:

Beginning at the northwest corner of the tract herein described, being the northwest corner of said Section 4, T9N, R1W, N.M.P.M., thence, S.89°21′00″ E., 2721.88 feet along the north line of Section 4 to the northeast corner of the tract herein described, being a point on the median line of the Rio Puerco and present west boundary of the Town of Atrisco Grant; thence along said median line of the Rio Puerco the following nineteen courses; thence S.11°59′56″ W., 120.70 feet; thence S.06°47′05″ W., 168.16 feet; thence S.10°06′19″ E., 194.44 feet; thence S.27°16′03″ E., 176.95 feet; thence S.38°17′03″ E., 324.26 feet; thence S.54°00′43″ E., 237.42 feet; thence S.45°38′58″ E., 159.54 feet; thence S.35°17′35″ E., 300.16 feet; thence S.13°52′34″ E., 165.95 feet; thence S.42°23′35″ W., 79.48 feet; thence S.76°37′31″ W., 59.34 feet; thence N.80°02′02″ W., 151.29 feet; thence S.19°20′01″ W., 381.37 feet; thence S.38°42′06″ E., 296.25 feet; thence S.47°03′55″ E., 186.40 feet; thence S.80°58′10″ E., 200.10 feet; thence S.63°54′35″ E., 198.41 feet; thence S.52°31′49″ E., 141.17 feet; thence S.42°13′00″ E., 140.74 feet to a point on the north line of Lot 5, Section 4, T.9N.,R.1 W., N.M.P.M.; thence, leaving said median line of the Rio Puerco, N.89°39′56″ W., 56.31 feet along the north line of said Lot 5 to a point being the northwest corner of said Lot 5; thence, S.00°00′14″ W., 985.46 feet along the west line of said Lot 5 to the southeast corner of the tract herein described; thence S.74°51′31″ W, 665.53 feet to a point on the right-of-way of Cross Road (NMP I-040-3(31)137); thence, along said right-of-way as follows; N.14°46′23″ W., 258.66 feet to a point; thence, S.74°57′04″ W., 25.00 feet to a point; thence, N.15°02′56″ W., 235.29 feet to a point of curvature; thence, along a curve to the left with a radius of 789.00 feet, an arc length of 247.87 feet, a chord bearing N.24°02′56″ W, 246.85 feet to a point, thence, S.56°57′04″ W., 150.00 feet to a point; thence, along a curve to the right with a radius of 639.00 feet, an arc length of 200.75 feet, and a chord bearing S.24°02′56″ E., 199.92 feet to a point of tangency; thence, S.15°02′56″ E., 788.97 feet to a point on the north right-of-way of Interstate Highway 40 (NMP I-040-3(31)137) frontage road; thence, S.60°00′14″ W., 242.09 feet to a point of curvature; thence, along a curve to the right with a radius of 697.0 feet, an arc length of 181.83 feet, a chord bearing S.67°28′39″ W., 181.32 feet to a point of tangency; thence, S.74°57′04″ W., 364.17 feet to a point; thence, leaving said right-of-way, N.14°40′55″ W., 418.56 feet to a point; thence, S.75°19′05″ W., 208.40 feet to a point, thence, S.14°40′55″ E., 419.89 feet to a point on the north right-of-way of said Interstate Highway 40 (NMP I-040-3(31)137) frontage road; thence, S.74°57′04″ W., 646.23 feet along said right-of-way to a point of curvature; thence, along a curve to the right with a radius of 697.00 feet, an arc length of 200.72 feet, a central angle of 16°30′00″ and a chord bearing S.83°12′04″ W., 200.03 feet to a point of tangency; thence, N.88°32′56″ W., 150.00 feet to a point of curvature; thence, along a curve to the left with a radius of 831.00 feet, an arc length of 478.62 feet, a chord bearing S.74°57′04″ W., 472.03 feet to a point of tangency; thence, S.58°27′04″ W., 150.00 feet to a point of curvature; thence, along a curve to the right with a radius of 697.00 feet, an arc length of 200.72 feet, a chord bearing S.66°42′04″ W., 200.03 feet to a point of tangency; thence, S.74°57′04″ W., 567.70 feet to the southwest corner of the tract herein described; thence, leaving said right-of-way, N.00°14′29″ W., 5092.77 feet along the west line of said Section 4 to the point of beginning. Containing an area of 351.8363 acres, more or less.

The above-described lands contain a total of 351.8363 acres, more or less, which are subject to all valid rights, reservations, rights-of-way, and easements of record.

This proclamation does not affect title to the land described above, nor does it affect any valid existing easements for public roads and highways, public utilities, railroads, and pipelines, and any other rights-of-way or reservations of record.

Dated: March 16, 2009.
George T. Skibine,
Deputy Assistant Secretary for Policy and Economic Development.

[FR Doc. E9-6887 Filed 3-26-09; 8:45 am]

BILLING CODE 4310-W7-P